DEPARTMENT OF HEALTH AND HUMAN SERVICES

Administration for Children and Families

[OMB No. 0970-0364]

Submission for OMB Review; Comment Request

Title: DHHS/ACF/OPRE Head Start Classroom-based Approaches and Resources for Emotion and Social skill promotion (CARES) project: Tracking Participants.

Description: The Head Start Classroom-based Approaches and Resources for Emotion and Social skill promotion (CARES) project is an evaluation of three social emotional program enhancements within Head Start settings serving three- and four-year-old children. This project focuses on identifying the central features of effective programs to provide the information federal policy makers and Head Start providers will need if they are to increase Head Start's capacity to improve the social and emotional skills and school readiness of preschool age children. The Head Start CARES project completed data collection for cohort (1) 4-year-olds and cohort (2) 3-year-olds in spring of 2011, and for cohort (2) 4-year-olds in the spring of 2013.

ACF is proposing to collect information necessary to identify Head Start CARES study respondents' current location and follow-up with respondents until the children reach third grade. In support of the examination of fourth grade outcomes, information must be collected from parents or guardians until the third grade year. Therefore, in the summer of 2013 and spring of 2014 tracking of all children will be necessary, in the spring of 2015 for the three- and four-year-olds in Cohort 2 only, and in the spring of 2016 the three-year-olds in Cohort 2 only. In addition to location and contact information, a small set of additional items will provide information on the parents' perception of the children's social and emotional skills and behavioral outcomes.

Respondents: Low-income parents and their Head Start children. This is a three-year information collection request.

Annual Burden Estimates
Instrument | Total number of respondents | Number of responses per respondent | Average burden hours per response | Total burden hours | Annual burden hours
Parent Survey Cohort 1 (4-year-olds) | 603 | 2 | 0.50 | 603 | 201
Parent Survey Cohort 2 (4-year-olds) | 2070 | 3 | 0.50 | 3105 | 1035
Parent Survey Cohort 2 (3-year-olds) | 960 | 4 | 0.50 | 1920 | 640
Estimated Annual Burden Sub-total |  |  |  |  | 1876

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2013-11202 Filed 5-13-13; 8:45 am]

BILLING CODE 4184-01-M